DEPARTMENT OF HEALTH AND HUMAN SERVICES

National Institutes of Health

National Library of Medicine Notice of Meeting Amended Notice of Meeting

Notice is hereby given of a change in the virtual meeting of the Biomedical Library, Informatics and Data Science Review Committee, June 15-16, 2023, which was published in the Federal Register on March 23, 2023, 88 FR 56, Page 17587.

This notice is being amended to change the meeting times to 10:00 a.m. to 6:00 p.m. on June 15th and 10 a.m. to 12:00 p.m. on June 16th. The meeting is closed to the public.

Dated: May 17, 2023.
Miguelina Perez,
Program Analyst, Office of Federal Advisory Committee Policy.

[FR Doc. 2023-10893 Filed 5-22-23; 8:45 am]

BILLING CODE 4140-01-P